ENVIRONMENTAL PROTECTION AGENCY

[EPA-HQ-OPPT-2006-0961; FRL-8110-2]

Fifty-Ninth Report of the TSCA Interagency Testing Committee to the Administrator of the Environmental Protection Agency; Receipt of Report and Request for Comments

AGENCY: Environmental Protection Agency (EPA).

ACTION: Notice.

SUMMARY: The Toxic Substances Control Act (TSCA) Interagency Testing Committee (ITC) transmitted its 59th ITC Report to the Administrator of EPA on December 13, 2006. In the 59th ITC Report, which is included with this notice, the ITC is revising the TSCA section 4(e) Priority Testing List by removing 22 chemicals. Phenol, 4-(1,1-dimethylethyl)- is being removed because a recently submitted reproductive effects study meets ITC's data needs. Five tungsten compounds and 16 chemicals with insufficient dermal absorption rate data are being removed because their production volumes or worker numbers indicate low potential for occupational exposures.

DATES: Comments must be received on or before February 21, 2007.

ADDRESSES: Submit your comments, identified by docket identification (ID) number EPA-HQ-OPPT-2006-0961, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2006-0961. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2006-0961. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket's index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

For submission of studies, see Unit IV.A.1. of the SUPPLEMENTARY INFORMATION.

FOR FURTHER INFORMATION CONTACT: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This notice is directed to the public in general. It may, however, be of particular interest to you if you manufacture (defined by statute to include import) and/or process TSCA-covered chemicals and you may be identified by the North American Industrial Classification System (NAICS) codes 325 and 32411. Because this notice is directed to the general public and other entities may also be interested, the Agency has not attempted to describe all the specific entities that may be interested in this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

The Toxic Substances Control Act (TSCA) (15 U.S.C. 260l et seq.) authorizes the Administrator of EPA to promulgate regulations under section 4(a) of TSCA requiring testing of chemicals and chemical groups in order to develop data relevant to determining the risks that such chemicals and chemical groups may present to health or the environment. Section 4(e) of TSCA established the ITC to recommend chemicals and chemical groups to the Administrator of EPA for priority testing consideration. Section 4(e) of TSCA directs the ITC to revise the TSCA section 4(e) Priority Testing List at least every 6 months.

You may access additional information about the ITC at http://www.epa.gov/opptintr/itc.

A. The ITC's 59th Report

The ITC is revising the TSCA section 4(e) Priority Testing List by removing 22 chemicals. Phenol, 4-(1,1-dimethylethyl)- is being removed because a recently submitted reproductive effects study meets ITC's data needs. Five tungsten compounds and sixteen chemicals with insufficient dermal absorption rate data are being removed because their production volumes or worker numbers indicate low potential for occupational exposures.

B. Status of the Priority Testing List

The Priority Testing List includes 2 alkylphenols, 5 tungsten compounds, 16 chemicals with insufficient dermal absorption rate data and 243 High Production Volume (HPV) Challenge Program orphan chemicals.

List of Subjects

Environmental protection, Chemicals, Hazardous substances.

Dated: January 12, 2007.
Charles M. Auer,
Director, Office of Pollution Prevention and Toxics.

Fifty-Ninth Report of the TSCA Interagency Testing Committee to the Administrator, U.S. Environmental Protection Agency

Table of Contents

Summary

I. Background

II. TSCA Section 8 Reporting

A. TSCA Section 8 Reporting Rules

B. ITC's Use of TSCA Section 8 and Other Information

C. Previous Requests to Add Chemicals to the TSCA Section 8(a) PAIR Rule and TSCA Section 8(d) HaSDR Rule

III. ITC's Activities During this Reporting Period (June to November 2006)

IV. Revisions to the TSCA Section 4(e) Priority Testing List: Chemicals Removed from the Priority Testing List

1. Chemicals with insufficient dermal absorption rate data.

2. Phenol, 4-(1,1-dimethylethyl)-.

3. Tungsten compounds.

V. References

VI. The TSCA Interagency Testing Committee

Summary

The ITC is revising the Toxic Substances Control Act (TSCA) section 4(e) Priority Testing List by removing 22 chemicals. Phenol, 4-(1,1-dimethylethyl)- is being removed because a recently submitted reproductive effects study meets ITC's data needs. Five tungsten compounds and sixteen chemicals with insufficient dermal absorption rate data are being removed because their production volumes or worker numbers indicate low potential for occupational exposures.

The TSCA section 4(e) Priority Testing List is Table 1 of this unit.

Table 1.—TSCA Section 4(e) Priority Testing List (November 2006)
ITC Report | Date | Chemical name/group | Action
31 | January 1993 | 2 Chemicals with insufficient dermal absorption rate data | Designated
32 | May 1993 | 10 Chemicals with insufficient dermal absorption rate data | Designated
35 | November 1994 | 4 Chemicals with insufficient dermal absorption rate data | Designated
37 | November 1995 | Branched 4-nonylphenol (mixed isomers) | Recommended
41 | November 1997 | Phenol, 4-(1,1,3,3-tetramethylbutyl)- | Recommended
53 | November 2003 | 5 Tungsten compounds | Recommended
55 | December 2004 | 238 High Production Volume (HPV) Challenge Program orphan chemicals | Recommended
56 | August 2005 | 5 HPV Challenge Program orphan chemicals | Recommended

I. Background

The ITC was established by section 4(e) of TSCA “to make recommendations to the Administrator respecting the chemical substances and mixtures to which the Administrator should give priority consideration for the promulgation of rules for testing under section 4(a).... At least every six months ..., the Committee shall make such revisions to the Priority Testing List as it determines to be necessary and transmit them to the Administrator together with the Committee's reasons for the revisions” (Public Law 94-469, 90 Stat. 2003 et seq., 15 U.S.C. 2601 et seq.). ITC Reports are available from the ITC's website (http://www.epa.gov/opptintr/itc) within a few days of submission to the EPA Administrator and from the EPA's website (http://www.epa.gov/fedrgstr) after publication in the Federal Register. The ITC produces its revisions to the Priority Testing List with administrative and technical support from the ITC staff, ITC members, and their U.S. Government organizations, and contract support provided by EPA. ITC members and staff are listed at the end of this report.

II. TSCA Section 8 Reporting

A. TSCA Section 8 Reporting Rules

Following receipt of the ITC's report (and the revised Priority Testing List) by the EPA Administrator, the EPA's Office of Pollution Prevention and Toxics (OPPT) may add the chemicals from the revised Priority Testing List to the TSCA section 8(a) Preliminary Assessment Information Reporting (PAIR) or TSCA section 8(d) Health and Safety Data Reporting (HaSDR) rules. The PAIR rule requires manufacturers (including importers) of chemicals added to the Priority Testing List to submit production and exposure reports (http://www.epa.gov/opptintr/chemtest/pubs/pairform.pdf). The HaSDR rule requires manufacturers (including importers) and can require processors of chemicals added to the Priority Testing List to submit unpublished health and safety studies under TSCA section 8(d) that must be in compliance with the revised HaSDR rule (Ref. 1).

B. ITC's Use of TSCA Section 8 and Other Information

The ITC's use of TSCA section 8 and other information is described in the 52nd ITC Report (http://www.epa.gov/opptintr/itc).

C. Previous Requests to Add Chemicals to the TSCA Section 8(a) PAIR Rule and TSCA Section 8(d) HaSDR Rule

In its 56th ITC Report the ITC requested that EPA add 243 of the 251 HPV Challenge Program orphan chemicals on the Priority Testing List to TSCA section 8(a) PAIR and 8(d) HaSDR rules (Ref. 2). In its 58th ITC Report the ITC removed the 8 HPV Challenge Program orphan chemicals listed in Tables 2 and 3 of the 56th ITC Report from the Priority Testing List and requested that EPA not add them to the TSCA section 8(a) PAIR and 8(d) HaSDR rules (Ref. 3). Additional information on the HPV Challenge Program orphan chemicals and EPA's September 2006 amended Policy Regarding Acceptance of New Commitments to Sponsor Chemicals under the HPV Challenge Program is available at http://www.epa.gov/hpv/pubs/general/hpvpolcy2.htm.

III. ITC's Activities During this Reporting Period (June to November 2006)

In its 56th and 58th ITC Reports, the ITC appended lists of new HPV chemicals with 1998 or 2002 Inventory Update Rule (IUR) production or importation volume data greater than or equal to 1 million pounds (Refs. 2 and 3). In response to public comments, the ITC made available on its website (http://www.epa.gov/opptintr/itc) the sources of publicly available health effects and environmental data for new HPV chemicals. The ITC provided these data sources to facilitate the efforts of Federal and State agencies, interested stakeholders, and members of the public to obtain basic health effects and environmental data for new HPV chemicals.

Despite efforts to provide these data sources for new HPV chemicals, appending these lists to the 56th and 58th ITC Reports (Refs. 2 and 3) caused confusion. The ITC regrets the confusion caused by these efforts and therefore provides the following clarifications:

• The ITC intentionally listed these new HPV chemicals in appendices and did not add them to the TSCA section 4(e) Priority Testing List.

• The EPA promulgates TSCA section 8(a) and TSCA 8(d) rules for ITC chemicals only after they have been added to the TSCA section 4(e) Priority Testing List.

• The ITC requests comments from readers who found the sources of basic health effects and environmental data for new HPV chemicals either useful or not useful, and if useful, how the sources were used.

During this reporting period, the ITC discussed:

• Chemicals with insufficient dermal absorption rate data.

• Alkylphenols.

• Tungsten compounds.

• Brominated flame retardants.

• Health-based screening levels.

• Tetrahydrofuran.

• Methyl iodide.

• Chlorine dioxide.

IV. Revisions to the TSCA Section 4(e) Priority Testing List: Chemicals Removed from the Priority Testing List

1. Chemicals with insufficient dermal absorption rate data. In its 31st, 32nd, and 35th ITC Reports, the ITC added 24, 34, and 25 chemicals, respectively, to the Priority Testing List and designated them for testing to develop dermal absorption rate data (Refs. 4, 5, and 6). The ITC removed methyl methacrylate and diethyl phthalate from the Priority Testing List in its 34th ITC Report (Ref. 7) and cyclohexanone from the Priority Testing List in its 36th ITC Report (Ref. 8). Methyl methacrylate, diethyl phthalate, and cyclohexanone were removed from the Priority Testing List because dermal absorption rate data were identified after these chemicals were added to the Priority Testing List. In its 45th ITC Report (Ref. 9), the ITC removed an additional 47 chemicals (designated for dermal absorption rate testing) from the Priority Testing List, because the EPA published a rule proposing dermal absorption rate testing for these chemicals (Ref. 10). In 2004, the EPA reviewed more recent production volume, exposure, and dermal absorption rate data and promulgated a rule requiring dermal absorption rate testing for 34 of these chemicals (Ref. 11). The rationales for EPA's decision not to finalize testing requirements for the other 13 chemicals in the proposed rule are described in reference 11. At this time, dermal absorption rate data have been developed for 32 of the 34 chemicals. Dimethyl sulfate (CAS No. 77-78-1) was dropped from consideration because it was considered too corrosive to test. Nonane (CAS No. 111-84-2) has been referred to EPA's compliance staff because a letter of intent to commence testing has not been received. In this 59th ITC Report, the ITC is removing 16 chemicals with insufficient dermal absorption rate data from the Priority Testing List (See Table 2 of this unit.).

Table 2.—Chemicals with insufficient dermal absorption rate data being removed from the Priority Testing List
CAS No. | TSCA Inventory Name | ITC Report
61-82-5 | 1H-1,2,4-Triazol-3-amine | 32
75-25-2 | Methane, tribromo- | 32
75-34-3 | Ethane, 1,1-dichloro- | 32
76-22-2 | Bicyclo[2.2.1]heptan-2-one, 1,7,7-trimethyl- | 31
99-65-0 | Benzene, 1,3-dinitro- | 32
100-25-4 | Benzene, 1,4-dinitro- | 31
105-46-4 | Acetic acid, 1-methylpropyl ester | 31
107-66-4 | Phosphoric acid, dibutyl ester | 31
110-83-8 | Cyclohexene | 31
123-92-2 | 1-Butanol, 3-methyl-, acetate | 31
532-27-4 | Ethanone, 2-chloro-1-phenyl- | 31
540-88-5 | Acetic acid, 1,1-dimethylethyl ester | 31
1300-73-8 | Benzenamine, ar,ar-dimethyl- | 32
6423-43-4 | 1,2-Propanediol, dinitrate | 32
7631-90-5 | Sulfurous acid, monosodium salt | 31
7681-57-4 | Disulfurous acid, disodium salt | 31

Five of these chemicals had reported production volumes of < 500,000 pounds and 11 had no production volumes reported to EPA in response to the 2002 IUR (Ref. 12). Further, 8 of the 11 chemicals with no 2002 IUR data had no production volumes reported to EPA in response to the 1994 or 1998 IURs (Refs. 13 and 14). The ITC is removing these 16 chemicals because their production volumes indicate low potential for occupational exposures.

There are 16 chemicals with insufficient dermal absorption rate data remaining on the Priority Testing List (See Table 3 of this unit.).

Table 3.—Chemicals with insufficient dermal absorption rate data remaining on the Priority Testing List
CAS No. | TSCA Inventory Name | ITC Report | Status
75-12-7 | Formamide | 35 | Screening Information Data Set (SIDS) & International Council of Chemical Associations (ICCA)
88-72-2 | Benzene, 1-methyl-2-nitro- | 32 | SIDS
89-72-5 | Phenol, 2-(1-methylpropyl)- | 32 | SIDS & HPV Challenge Program
90-04-0 | Benzenamine, 2-methoxy- | 32 | SIDS
95-13-6 | 1H-Indene | 32 | American Chemistry Council (ACC), Soap and Detergent Association (SDA) & Synthetic Organic Chemical Manufacturers Association (SOCMA) Extended (E) HPV Challenge Program
96-18-4 | Propane, 1,2,3-trichloro- | 35 | SIDS & ICCA
99-08-1 | Benzene, 1-methyl-3-nitro- | 35 | Sponsored HPV chemical
100-63-0 | Hydrazine, phenyl- | 32 | Appendix A, 58th ITC Report
106-49-0 | Benzenamine, 4-methyl- | 32 | SIDS & ICCA
108-44-1 | Benzenamine, 3-methyl- | 32 | SIDS
108-87-2 | Cyclohexane, methyl- | 31 | Moderate production volume (MPV) 2002 chemical
121-14-2 | Benzene, 1-methyl-2,4-dinitro- | 32 | SIDS
287-92-3 | Cyclopentane | 31 | SIDS, ICCA, & HPV Challenge Program
540-59-0 | Ethene, 1,2-dichloro- | 32 | MPV 1998 & 2002
542-92-7 | 1,3-Cyclopentadiene | 35 | HPV orphan chemical
626-17-5 | 1,3-Benzenedicarbonitrile | 32 | Sponsored HPV chemical

Twelve of the sixteen chemicals with insufficient dermal absorption rate data remaining on the Priority Testing List are included in EPA's HPV Challenge Program, the Organization for Economic Cooperation and Development (OECD) SIDS Program, ICCA HPV Initiative, or the ACC, SDA, and SOCMA EHPV Program.

Two of the sixteen chemicals with insufficient dermal absorption rate data remaining on the Priority Testing List are MPV chemicals (production or importation volumes ranging from 500,000 to 999,999 pounds). One of the 16 chemicals, phenylhydrazine, was listed in Appendix A of the 58th ITC Report (Ref. 3) because it was a new HPV chemical in 2002. The last chemical, 1,3-cyclopentadiene is a HPV Challenge Program orphan chemical that remains on the Priority Testing List to provide potential sponsors the opportunity to voluntarily submit or develop data, including dermal absorption rate data.

The ITC encourages the manufacturers or sponsors of the 16 chemicals in Table 3 of this unit to voluntarily develop dermal absorption rate data using the methods discussed in reference 11 and submit studies using one of the following methods:

• Hand Delivery: John D. Walker, OPPT/ITC (7401M), EPA, EPA East Bldg., Rm. 5353, 1201 Constitution Ave., NW., Washington, DC. Attention: FYI-ITC.

• Mail: Document Control Office (7407M), Office of Pollution Prevention and Toxics (OPPT), Environmental Protection Agency, 1200 Pennsylvania Ave., NW., Washington, DC 20460-0001. Attention: FYI-ITC.

2. Phenol, 4-(1,1-dimethylethyl)-. Eighty-eight alkylphenols, polyalkylphenols, alkylphenol ethoxylates, and alkylphenol polyethoxylates were added to the Priority Testing List in the 37th, 39th, 41st, and 46th ITC Reports (Refs. 18-21). Fifty of these chemicals were removed from the Priority Testing List in the 43rd, 46th, and 48th ITC Reports (Refs. 21-23) because:

a. No domestic production or importation volumes were reported to the EPA in response to 1986, 1990, 1994, or 1998 IURs (Refs. 13, 14, 24, and 25),

b. No domestic production or importation volumes were reported to the EPA in response to the February 28, 1996 PAIR rule (Ref. 26),

c. No TSCA section 8(d) studies were submitted to the EPA in response to the February 28, 1996 HaSDR rule (Ref. 26),

d. No domestic production or importation volumes were reported to the EPA in response to the January 11, 2000 PAIR rule (Ref. 27),

e. No domestic production or importation volumes were reported to the EPA in response to the July 5, 2000 PAIR rule (Ref. 28),

f. No TSCA section 8(e) or FYI studies were available for these chemicals as of September 1998, or

g. Use and health and safety data were voluntarily submitted to the ITC by the Chemical Manufacturers Association Alkylphenols and Ethoxylates Panel.

Thirty-five of these chemicals were removed from the Priority Testing List in the 50th and 51st ITC Reports (Refs. 29 and 30) because:

• No domestic production or importation volumes were reported to the EPA in response to 1986, 1990, 1994, and 1998 IURs (Refs. 13, 14, 24, and 25) or reported to the EPA in response to the July 5, 2000 PAIR rule (Ref. 28).

• Data developed in response to the EPA's HPV Challenge Program could be used to predict toxicity, or

• The Alkyl Phenol Ethoxylates Research Consortium (http://www.aperc.org) provided information to meet the ITC's data needs.

The three remaining alkyphenols on the Priority Testing List are: Phenol, 4-(1,1-dimethylethyl)- (CAS No. 98-54-4); phenol, 4-(1,1,3,3-tetramethylbutyl)- (CAS No. 140-66-9); and phenol, 4-nonyl-, branched (CAS No. 84852-15-3) (Ref. 30). For phenol, 4-(1,1-dimethylethyl)-, the ITC anticipated receiving the ongoing reproductive effects study. For phenol, 4-(1,1,3,3-tetramethylbutyl)- and phenol, 4-nonyl-, branched, the ITC anticipated receiving amphibian toxicity data, avian reproductive effects data, and fish reproductive effects data.

The ITC received the recently completed 2-generation reproductive effects study in rats for phenol, 4-(1,1-dimethylethyl)-, more commonly referred to as 4-tert-butylphenol (Ref. 31). The ITC is removing 4-tert-butylphenol from the Priority Testing List because the reproductive effects study meets the ITC's data needs.

There are amphibian toxicity data for phenol, 4-(1,1,3,3-tetramethylbutyl)- and phenol, 4-nonyl-, branched. In an amphibian toxicity study of phenol, 4-nonyl-, branched, the 96 hour LC50 for toad (Bufo boreas) tadpoles was 120 microgram/Liter (μg/L) (Ref. 32). Two amphibian toxicity studies of phenol, 4-(1,1,3,3-tetramethylbutyl)- were discussed in a recent review (Ref. 33). One was categorized as “not valid” (Ref. 34) and the other as “use with care” (Ref. 35). These studies may be sufficient to meet the ITC's amphibian toxicity data needs for phenol, 4-(1,1,3,3-tetramethylbutyl)- and phenol, 4-nonyl-, branched. However, the ITC is leaving phenol, 4-(1,1,3,3-tetramethylbutyl)- and phenol, 4-nonyl-, branched on the Priority Testing List because it needs time to:

• Determine if the existing fish reproductive effects data are sufficient to meet the ITC's data needs.

• Review the EPA's Safer Detergents Stewardship Initiative (http://www.epa.gov/dfe/pubs/projects/formulat/sdsi.htm).

• Determine if phenol, 4-(1,1,3,3-tetramethylbutyl)- or phenol, 4-nonyl-, branched should be tested for avian reproductive effects.

3. Tungsten compounds. Of the 22 tungsten compounds added to the Priority Testing List in the 53rd ITC Report (Ref. 36) and 56th ITC Report (Ref. 2), 12 were removed in the 58th ITC Report (Ref. 3). At this time the ITC is removing 5 additional tungsten compounds from the Priority Testing List (See Table 4 of this unit.).

Table 4.—Tungsten compounds being removed from the Priority Testing List
CAS No. | Chemical name
7783-03-1 | Tungstate (WO4²-), dihydrogen, (T-4)-
7783-82-6 | Tungsten fluoride (WF6), (OC-6-11)-
12028-48-7 | Tungstate (W12(OH)2O38⁶-), hexaammonium
12036-22-5 | Tungsten oxide (WO2)
12138-09-9 | Tungsten sulfide (WS2)

The ITC is removing these five tungsten compounds from the Priority Testing List because production volume and worker numbers data submitted in response to the December 7, 2004 PAIR rule (Ref. 37) indicate low potential for occupational exposure.

Table 5 of this unit lists the tungsten compounds remaining on the Priority Testing List.

Table 5.—Tungsten Compounds Remaining on the Priority Testing List
CAS No. | Chemical name
1314-35-8 | Tungsten oxide (WO3)
7440-33-7 | Tungsten
10213-10-2 | Tungstate (WO4²-), disodium, dihydrate, (T-4)-
11120-25-5 | Tungstate (W12(OH)2O40¹⁰-), decaammonium
13472-45-2 | Tungstate (WO4²-), disodium, (T-4)-

V. References

1. EPA. 1998. Revisions to Reporting Regulations under TSCA Section 8(d). Federal Register (63 FR 15765, April 1, 1998) (FRL-5750-4). Available on-line at: http://www.epa.gov/fedrgstr.

2. ITC. 2005. Fifty-Sixth Report of the ITC. Federal Register (70 FR 61520, October 24, 2005) (FRL-7739-9). Available on-line at: http://www.epa.gov/fedrgstr.

3. ITC. 2006. Fifty-Eighth Report of the ITC. Federal Register (70 FR 39187, July 11, 2006) (FRL-8073-7). Available on-line at: http://www.epa.gov/fedrgstr.

4. ITC. 1993. Thirty-First Report of the ITC. Federal Register (58 FR 26898, May 5, 1993) (FRL-4583-4). Available on-line at: http://www.regulations.gov, EPA-HQ-OPPT-2006-0961.

5. ITC. 1993. Thirty-Second Report of the ITC. Federal Register (58 FR 38490, July 16, 1993) (FRL-4630-2). Available on-line at: http://www.regulations.gov, EPA-HQ-OPPT-2006-0961.

6. ITC. 1994. Thirty-Fifth Report of the ITC. Federal Register (59 FR 67596, December 29, 1994) (FRL-4923-2). Available on-line at: http://www.regulations.gov, EPA-HQ-OPPT-2006-0961.

7. ITC. 1994. Thirty-Fourth Report of the ITC. Federal Register (59 FR 35720, July 13, 1994) (FRL-4870-4). Available online at http://www.regulations.gov, EPA-HQ-OPPT-2006-0961.

8. ITC. 1995. Thirty-Sixth Report of the ITC. Federal Register (60 FR 42982, August 17, 1995) (FRL-4965-6). Available on-line at: http://www.epa.gov/fedrgstr.

9. ITC. 2000. Forty-Fifth Report of the ITC. Federal Register (65 FR 75544, December 1, 2000) (FRL-6399-5). Available on-line at: http://www.epa.gov/fedrgstr.

10. EPA. 1999. Proposed Test Rule for In Vitro Dermal Absorption Rate Testing of Certain Chemicals of Interest to Occupational Safety and Health Administration. Federal Register (64 FR 31074, June 9, 1999) (FRL-5760-3). Available on-line at: http://www.epa.gov/fedrgstr.

11. EPA. 2004. Final Test Rule for In Vitro Dermal Absorption Rate Testing of Certain Chemicals of Interest to Occupational Safety and Health Administration. Federal Register (69 FR 22402, April 26, 2004) (FRL-7312-2). Available on-line at: http://www.epa.gov/fedrgstr.

12. EPA. 2002 Reporting Notice; 2002. Partial Updating of TSCA Inventory Data Base; Production and Site Reports; Federal Register (67 FR 18615, April 16, 2002) (FRL-6826-5). Available on-line at: http://www.epa.gov/fedrgstr.

13. EPA. 1994. Partial Updating of TSCA Inventory Data Base; Production and Site Reports; Technical Amendment. Federal Register (59 FR 30652, June 14, 1994) (FRL-4869-7). Available on-line at: http://www.regulations.gov, EPA-HQ-OPPT-2006-0961.

14. EPA. 1998. Partial Updating of TSCA Inventory Data Base; Production and Site Reports; Technical Amendment. Federal Register (63 FR 459503, August 28, 1998) (FRL-6028-3). Available on-line at: http://www.epa.gov/fedrgstr.

15. EPA. 2006. Preliminary Assessment Information Reporting; Addition of Certain Chemicals. Federal Register (71 FR 47122, August 16, 2006) (FRL-7764-9). Available on-line at: http://www.epa.gov/fedrgstr.

16. EPA. 2006. Health and Safety Data Reporting; Addition of Certain Chemicals. Federal Register (71 FR 47130, August 16, 2006) (FRL-7764-7). Available on-line at: http://www.epa.gov/fedrgstr.

17. EPA. 2006. Withdrawal of Certain Chemicals from Preliminary Assessment Information Reporting and Health and Safety Data Reporting Rules. Federal Register (71 FR 57439, September 29, 2006) (FRL-8096-5). Available on-line at: http://www.epa.gov/fedrgstr.

18. ITC. 1995. Thirty-Seventh Report of the ITC. Federal Register (61 FR. 4188, February 2, 1996) (FRL-4991-6). Available on-line at: http://www.epa.gov/fedrgstr.

19. ITC. 1996. Thirty-Ninth Report of the ITC. Federal Register (62 FR 8578, February 25, 1997) (FRL-5580-9). Available on-line at: http://www.epa.gov/fedrgstr.

20. ITC. 1997. Forty-First Report of the ITC. Federal Register (63 FR 17658, April 9, 1998) (FRL-5773-5). Available on-line at: http://www.epa.gov/fedrgstr.

21. ITC. 2000. Forty-Sixth Report of the ITC. Federal Register (65 FR 75552, December 1, 2000) (FRL-6594-7). Available on-line at: http://www.epa.gov/fedrgstr.

22. ITC. 2000. Forty-Third Report of the ITC. Federal Register (65 FR 65234, October 31, 2000) (FRL-6049-5). Available on-line at: http://www.epa.gov/fedrgstr.

23. ITC. 2001. Forty-Eighth Report of the ITC. Federal Register (66 FR 51276, October 5, 2001) (FRL-6786-7). Available on-line at: http://www.epa.gov/fedrgstr.

24. EPA. 1986. Partial Updating of TSCA Inventory Data Base; Production and Site Reports. Federal Register (51 FR 21438, June 12, 1986). Available on-line at: http://www.regulations.gov, EPA-HQ-OPPT-2006-0961.

25. EPA. 1990. Partial Updating of TSCA Inventory Data Base; Production and Site Reports; Technical Amendment. Federal Register (55 FR 39586, September 27, 1990) (FRL-3770-4). Available on-line at: http://www.regulations.gov, EPA-HQ-OPPT-2006-0961.

26. EPA. 1996. Preliminary Assessment Information and Health and Safety Data Reporting; Addition of Certain Chemicals. Federal Register (61 FR 7421, February 28, 1996) (FRL-4996-9). Available on-line at: http://www.epa.gov/fedrgstr.

27. EPA. 2000. Preliminary Assessment Information and Health and Safety Data Reporting; Addition of Certain Chemicals. Federal Register (65 FR 1548, January 11, 2000) (FRL-5777-2). Available on-line at: http://www.epa.gov/fedrgstr.

28. EPA. 2000. Preliminary Assessment Information and Health and Safety Data Reporting; Addition of Certain Chemicals. Federal Register (65 FR 41371, July 5, 2000) (FRL-6589-1). Available on-line at: http://www.epa.gov/fedrgstr.

29. ITC. 2002. Fiftieth Report of the ITC. Federal Register (67 FR 49530, July 30, 2002) (FRL-7183-7). Available on-line at: http://www.epa.gov/fedrgstr.

30. ITC. 2003. Fifty-First Report of the ITC. Federal Register (68 FR 8976, February 26, 2003) (FRL-7285-7). Available on-line at: http://www.epa.gov/fedrgstr.

31. Charles Rivers Laboratories, Edinburgh, Scotland. Final Report: p-tert-butylphenol Two Generation Reproduction Study in Rats Study No. 493595 Report No. 24804. Unpublished report sponsored by SASOL GmbH (Germany) and SI Group-Switzerland GmbH (Formerly Schenectady Pratteln GmbH, Switzerland). February 2006.

32. Dwyer, F.J.; Mayer, F.L.; Sappington, L.C.; Buckler, D.R.; Bridges, C.M.; Greer, I.E.; Hardesty, D.K.; Henke, C.E.; Ingersoll, C.G.; Kunz, J.L.; Whites, D.W.; Augspurger, T.; Mount, D.R.; Hattala, K.; and Neuderfer, G. 2005. Assessing contaminant sensitivity of endangered and threatened aquatic species: Part I. Acute toxicity of five chemicals. Archives Environmental Contamination Toxicology. 48:143-154.

33. Van Miller, J.P. Staples CA. 2005. Review of the potential environmental and human health-related hazards and risks from long-term exposure to p-tert-octylphenol. Human and Ecological Risk Assessment. 11:319-351.

34. Kloas, W.; Lutz, I.; Einspanier, R. 1999. Amphibians as a model to study endocrine disruptors: II. Estrogenic activity of environmental chemicals in vitro and in vivo. Science of the Total Environment. 225:59-68.

35. Crump, D.; Lean, D.; and Trudeau, V.L. 2002. Octylphenol and UV-B radiation alter larval development and hypothalamic gene expression in the Leopard Frog (Rana pipiens). Environmental Health Perspectives. 110:277-284.

36. ITC. 2004. Fifty-Third Report of the ITC. Federal Register (69 FR 2467, January 15, 2004) (FRL-7335-2). Available on-line at: http://www.epa.gov/fedrgstr.

37. EPA. 2004. Preliminary Assessment Information Reporting; Addition of Certain Chemicals. Federal Register (69 FR 70552, December 7, 2004) (FRL-7366-8). Available on-line at: http://www.epa.gov/fedrgstr.

VI. The TSCA Interagency Testing Committee

Statutory Organizations and Their Representatives

Council on Environmental Quality

Vacant

Department of Commerce

National Institute of Standards and Technology

Dianne Poster, Member, Vice Chair

National Oceanographic and Atmospheric Administration

Tony Pait, Member

Environmental Protection Agency

John Schaeffer, Member

Gerry Brown, Alternate

National Cancer Institute

Alan Poland, Alternate

National Institute of Environmental Health Sciences

John Bucher, Member

Scott Masten, Alternate

National Institute for Occupational Safety and Health

Dennis W. Lynch, Member

Mark Toraason, Alternate

National Science Foundation

Cindy Lee, Member

Marge Cavanaugh, Alternate

Occupational Safety and Health Administration

Maureen Ruskin, Member, Chair

Thomas Nerad, Alternate

Liaison Organizations and Their Representatives

Agency for Toxic Substances and Disease Registry

Daphne Moffett, Member

Glenn D. Todd, Alternate

Consumer Product Safety Commission

Jacqueline Ferrante, Member

Department of Agriculture

Clifford P. Rice, Member

Laura L. McConnell, Alternate

Department of Defense

Laurie Roszell, Member

Department of the Interior

Barnett A. Rattner, Member

Food and Drug Administration

Kirk Arvidson, Alternate

Ronald F. Chanderbhan, Alternate

National Library of Medicine

Vera W. Hudson, Member

National Toxicology Program

NIEHS, FDA, and NIOSH, Members

Technical Support Contractor

Syracuse Research Corporation

ITC Staff

John D. Walker, Director

Carol Savage, Administrative Assistant

TSCA Interagency Testing Committee (7401), Office of Pollution Prevention and Toxics, Environmental Protection Agency, 1200 Pennsylvania Ave., NW., Washington, DC 20460-0001; e-mail address: savage.carol@epa.gov; url: http://www.epa.gov/opptintr/itc.

[FR Doc. E7-837 Filed 1-19-07; 8:45 am]

BILLING CODE 6560-50-S